NATIONAL AERONAUTICS AND SPACE ADMINISTRATION

[Notice 01-071]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: June 14, 2001.

FOR FURTHER INFORMATION CONTACT: Edward Fein, Patent Counsel, Johnson Space Center, Mail Code HA, Houston, TX 77058-3696; telephone (281) 483-4871, fax (281) 244-8452.

NASA Case No. MSC-22633-2: Growth Stimulation of Biological Cells and Tissue By Electromagnetic Fields and Uses Thereof;

NASA Case No. MSC-22936-3: Method for Determining The Three-Dimensional Structure of A Protein;

NASA Case No. MSC-22936-4: X-Ray Crystallography Reagent;

NASA Case No. MSC-23029-1: Medium Frequency Pseudo Noise Geological Radar;

NASA Case No. MSC-23153-1: Sensor and Method for Detecting A Superstrate (combined with MSC-23118).

Dated: June 4, 2001.
Edward A. Frankle,
General Counsel.

[FR Doc. 01-15014 Filed 6-13-01; 8:45 am]

BILLING CODE 7510-01-P